DEPARTMENT OF TRANSPORTATION

Federal Railroad Administration

[Docket No. FRA-2025-0003]

Proposed Agency Information Collection Activities; Comment Request

AGENCY: Federal Railroad Administration (FRA), Department of Transportation (DOT).

ACTION: Notice of information collection; request for comment.

SUMMARY: Under the Paperwork Reduction Act of 1995 (PRA) and its implementing regulations, FRA seeks approval of the Information Collection Request (ICR) summarized below. Before submitting this ICR to the Office of Management and Budget (OMB) for approval, FRA is soliciting public comment on specific aspects of the activities identified in the ICR.

DATES: Interested persons are invited to submit comments on or before June 30, 2025.

ADDRESSES: Written comments and recommendations for the proposed ICR should be submitted on www.regulations.gov to the docket, Docket No. FRA-2025-0003. All comments received will be posted without change to the docket, including any personal information provided. Please refer to the assigned OMB control number (2130-0529) in any correspondence submitted. FRA will summarize comments received in response to this notice in a subsequent 30-day notice, made available to the public, and include them in its information collection submission to OMB for approval.

FOR FURTHER INFORMATION CONTACT: Ms. Arlette Mussington, Information Collection Clearance Officer, at email: arlette.mussington@dot.gov or telephone: (571) 609-1285 or Ms. Joanne Swafford, Information Collection Clearance Officer, at email: joanne.swafford@dot.gov or telephone: (757) 897-9908.

SUPPLEMENTARY INFORMATION: The PRA, 44 U.S.C. 3501-3520, and its implementing regulations, 5 CFR part 1320, require Federal agencies to provide 60 days' notice to the public to allow comment on information collection activities before seeking OMB approval of the activities. See 44 U.S.C. 3506, 3507; 5 CFR 1320.8 through 1320.12. Specifically, FRA invites interested parties to comment on the following ICR regarding: (1) whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, comments received will advance three objectives: (1) reduce reporting burdens; (2) organize information collection requirements in a “user-friendly” format to improve the use of such information; and (3) accurately assess the resources expended to retrieve and produce information requested. See 44 U.S.C. 3501.

The summary below describes the ICR that FRA will submit for OMB clearance as the PRA requires:

Title: Disqualification Proceedings.

OMB Control Number: 2130-0529.

Abstract: Title 49 CFR part 209, subpart D (subpart D) codifies FRA procedures to provide due process to individuals whom FRA proposes to disqualify from sensitive safety service, as authorized by 49 U.S.C. 20111. Since OMB first approved control number 2130-0529,¹ the only section in subpart D deemed to contain information collection requirements subject to the PRA was 49 CFR 209.331, Enforcement of disqualification order, which requires: (a) a railroad employing or formerly employing a disqualified individual to disclose the terms and conditions of the order to the individual's new or prospective employer railroad; (b) a railroad considering hiring an individual in a safety-sensitive position to inquire with the individual's prior employer, if the former employer is a railroad, whether the individual is serving under a disqualification order; and (c) a disqualified individual to inform the individual's current and prospective railroad employers, and provide a copy of the order.

¹ See 56 FR 66791 (Dec. 26, 1991).

When FRA last renewed this ICR in 2022, it included two sections under subpart D in its paperwork burden estimates in addition to § 209.331.² On review, FRA has determined that the inclusion of those sections is not required by the PRA. Specifically, the response required under §§ 209.307 and 209.309 from a person who receives a Notice of Proposed Disqualification is not subject to OMB approval because the information is collected “during the conduct of an administrative action, investigation, or audit involving an agency against specific individuals or entities.” See 5 CFR 1320.4(a)(2). Therefore, the previously reported burden for those two sections has been removed from this ICR. Accordingly, estimated burden hours under this ICR have decreased from 41 hours to 2 hours, and the number of estimated responses has decreased from 22 to 4 responses.

² See 87 FR 5933 (Feb. 2, 2022).

Type of Request: Extension without change (with changes in estimates) of a currently approved collection.

Affected Public: 754 railroads and 181,210 railroad employees.

Form(s): N/A.

Respondent Universe: 754 railroads and 181,210 railroad employees.

Frequency of Submission: On occasion.

Reporting Burden
CFR section | Respondent universe | Total annual responses | Average time per response | Total annual burden hours | Wage rates | Total cost equivalent
|  | (A) | (B) | (C) = A * B | (D) ³ | (E) = C * D
Subpart D Disqualification Procedures
209.307 Reply | The paperwork burden associated with this regulatory requirement is exempt under 5 CFR 1320.4(a)(2).
209.309 Informal response | The paperwork burden associated with this regulatory requirement is exempt under 5 CFR 1320.4(a)(2).
209.331 Enforcement of disqualification order: | 754 railroads | 2 | 30 minutes | 1 | $89.13 | $89.13
—(a) A railroad that employs or formerly employed an individual serving under a disqualification order must inform other prospective employers
—(b) A railroad considering hiring an individual to perform safety-sensitive functions to check with previous railroad employer for any disqualification orders | This is a common practice for the railroad industry to do routine personnel checks on individuals whom they are planning on hiring. Thus, there is no burden associated with this requirement.
—(c) Individual subject to a disqualification order shall inform employer | 181,210 employees | 2 | 30 minutes | 1 | $89.13 | $89.13
Total ⁴ | 181,210 employees 754 railroads | 4 | N/A | 2 | N/A | $178.26

Total Estimated Annual Responses: 4.

³ The dollar equivalent cost is derived from the 2023 Surface Transportation Board's Full Year Wage A&B data series using the employee group 200 (Professional & Administrative) hourly wage rate of $50.93. The total burden wage rate (straight time plus 75%) used in the table is $89.13 ($50.93 × 1.75 = $89.13).

⁴ Total may not add up due to rounding.

Total Estimated Annual Burden: 2 hours.

Total Estimated Annual Burden Hour Dollar Cost Equivalent: $178.26.

FRA informs all interested parties that it may not conduct or sponsor, and a respondent is not required to respond to, a collection of information that does not display a currently valid OMB control number.

(Authority: 44 U.S.C. 3501-3520.)

Christopher S. Van Nostrand,
Deputy Chief Counsel.

[FR Doc. 2025-07340 Filed 4-28-25; 8:45 am]

BILLING CODE 4910-06-P